ENVIRONMENTAL PROTECTION AGENCY

40 CFR Part 52

[EPA-R05-OAR-2009-0808; FRL-9243-3]

Approval and Promulgation of Air Quality Implementation Plans; Minnesota; Sulfur Dioxide SIP Revision for Marathon Petroleum St. Paul Park

AGENCY: Environmental Protection Agency (EPA).

ACTION: Direct final rule.

SUMMARY: On October 6, 2009, Minnesota submitted a request for a sulfur dioxide State Implementation Plan revision for Marathon Petroleum in St. Paul Park. This submittal updates the State Implementation Plan to reflect the installation of new boilers and a sulfur recovery unit and changes to three existing heaters. Overall, this update represents a decrease in sulfur dioxide emissions. EPA is approving these revisions under the Clean Air Act.

DATES: This direct final rule will be effective February 28, 2011, unless EPA receives adverse comments by January 27, 2011. If adverse comments are received, EPA will publish a timely withdrawal of the direct final rule in the Federal Register informing the public that the rule will not take effect.

ADDRESSES: Submit your comments, identified by Docket ID No. EPA-R05-OAR-2009-0808, by one of the following methods:

1. http://www.regulations.gov: Follow the on-line instructions for submitting comments.

2. E-mail: aburano.douglas@epa.gov.

3. Fax: (312)408-2279.

4. Mail: Douglas Aburano, Chief, Control Strategies Section, Air Programs Branch (AR-18J), U.S. Environmental Protection Agency, 77 West Jackson Boulevard, Chicago, Illinois 60604.

5. Hand Delivery: Douglas Aburano, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office's official hours of business are Monday through Friday, 8:30 a.m. to 4:30 p.m., excluding Federal holidays.

Instructions: Direct your comments to Docket ID No. EPA-R05-OAR-2009-0808. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Mary Portanova, Environmental Engineer, at (312) 353-5954 before visiting the Region 5 office.

FOR FURTHER INFORMATION CONTACT: Mary Portanova, Environmental Engineer, Control Strategies Section, Air Programs Branch (AR-18J), Environmental Protection Agency, Region 5, 77 West Jackson Boulevard, Chicago, Illinois 60604, (312) 353-5954, portanova.mary@epa.gov.

SUPPLEMENTARY INFORMATION: Throughout this document whenever “we,” “us,” or “our” is used, we mean EPA. This supplementary information section is arranged as follows:

I. Background

II. What has changed in the SIP?

III. Air Quality Analysis

IV. What action is EPA taking?

V. Statutory and Executive Order Reviews

I. Background

On October 6, 2009, Minnesota submitted a site-specific sulfur dioxide (SO2) State Implementation Plan (SIP) revision request for Marathon Petroleum Co, LLC, (Marathon) in the Saint Paul Park area of Minneapolis-St.Paul, Minnesota. This area had been designated as nonattainment of the SO2 National Ambient Air Quality Standards (NAAQS) in 1979, but was redesignated to attainment for SO2 on May 13, 1997 (62 FR 26230), after meeting the requirements of the Clean Air Act and measuring eight quarters of monitored air quality data below the SO2 NAAQS. The October 6, 2009 submittal serves to update the SO2 maintenance plan for St. Paul Park.

Minnesota places its SIP conditions in joint Title I/Title V documents, in the form of State Air Emission Permits. The SIP conditions are listed in the State's documents as Title I conditions, which refers to Title I of the Clean Air Act. The documents also contain Title V permit conditions for the affected facilities. The most recently approved Title I SIP conditions for this Marathon facility (previously known as Marathon Ashland Petroleum LLC) were those which were placed in Minnesota's Air Emission Permit No. 16300003-003. These SIP conditions were Federally approved into Minnesota's SO2 SIP on May 20, 2002 (67 FR 35437).

The October 6, 2009, SO2 SIP revision request accounts for several changes since 2002 at the Marathon Petroleum refinery, including the installation of a new sulfur recovery unit, physical changes to three existing heaters, and the installation of two new boilers. These changes were set forth in Air Emission Permits 16300003-006 and 16300003-016. The State requested that EPA approve into the SIP only the permit conditions labeled “Title I Condition: State Implementation Plan for SO2 NAAQS,” and remove all non-SIP-related “Title I Conditions” from the SIP.

II. What has changed in the SIP?

Marathon has planned or implemented several changes to SO2-emitting units at the St. Paul Park facility since 2002. The company has installed a new sulfur recovery unit at the facility, made changes to three of its heaters, and installed two new boilers. SIP conditions have been altered to represent these new or modified units.

Minnesota's permit action 16300003-006, issued November 5, 2002, authorized Marathon to install a new sulfur recovery unit (SRU) and a Shell Claus off-gas treating (SCOT) tail gas unit. Allowable SO2 emissions from the new Number 3 SRU are restricted to 15 lb/hr (on a 3-hour average) and 39 tons per year (tpy). A continuous emissions monitor (CEM) will be used to measure SO2 emissions from the units.

Under the same permit action, Marathon made physical changes to two heaters. Changes to the Hot Oil Heater (EU016, 5-34-B-2) only affected its stack dispersion characteristics, but did not change its SO2 emission limit. Changes to the Number 2 Crude Charge Heater (EU006, 5-2-B-3) included the replacement of its burners with low-nitrogen oxides burners and the replacement of its convection sections and stack. These changes removed the heater's ability to burn refinery fuel oil. Permit action 16300003-006 primarily discussed reductions in the emissions of nitrogen oxides from this heater and did not address the effect on SO2 of removing refinery fuel oil. The revised permit allows only natural gas and refinery fuel gas for this heater, but the SO2 limits for the Number 2 Crude Charge Heater remain unchanged at 34 lb/hr and 0.2834 lb/MMBTU.

In 2007, Marathon replaced the burner in the Heavy Distillate Hydrotreater Charge Heater (EU017). With the new burner, this heater can no longer combust refinery fuel oil. In permit action 16300003-016, issued on September 11, 2009, EU017 was restricted to natural gas and refinery fuel gas only, and its SO2 SIP emission limit was reduced accordingly, from 66.6 lb/hr to 2.97 lb/hr. This represents a 279 tpy reduction in allowable SO2 emissions. In addition, some former SIP testing and recordkeeping requirements relating to the use of refinery fuel oil have been removed for this heater.

Permit action 16300003-016 also allows two new boilers to be installed at the Marathon facility. The new boilers, Boiler 92 (EU092) and Boiler 93 (EU093), are limited to 0.025 lb/MMBtu of SO2, and are only permitted to use natural gas or refinery fuel gas. The new boilers' 7.2 lb/hr (31.5 tpy) emissions increase will be offset by the shutdown of three other boilers at the facility: Boiler 5 (EU001), Boiler 4 (EU020) and Boiler 6 (EU021). The permit provides that Boilers 4, 5, and 6 must be shut down 180 days after the new boilers begin operating or 60 days after both new boilers achieve maximum operating rate, whichever comes first. Boilers 92 and 93 are not allowed to begin operating until EPA has approved their SIP limits. Boilers 4 and 6 are allowed to use either natural gas, refinery fuel gas, or refinery fuel oil. Boiler 5 can only use natural gas or refinery fuel gas. Their shutdown will bring a 323 tpy reduction in allowable SO2 emissions.

III. Air Quality Analysis

The SO2 source configuration and emission limit changes in permits 16300003-006 and 16300003-016 were evaluated using air dispersion modeling. Modeling analyses were performed when the Number 3 SRU and Boiler 92 and 93 installations were originally permitted (2002 and 2009). These analyses were submitted as part of the October 6, 2009 SIP revision request. Because EPA's air quality modeling recommendations have changed since 2002, the analyses were not both performed using the same dispersion model.

Modeling for the Number 3 SRU installation and the physical changes to heaters EU006 and EU016 was performed in 2002, using the ISCST3 model, which was the EPA-recommended model at the time. The predicted SO2 concentrations for the Marathon facility and neighboring SO2 sources, including a background concentration, were below the SO2 NAAQS.

Modeling for the Boiler 92 and 93 installation and the emission limit reductions for heater EU017 was performed in 2009, using the EPA recommended dispersion model, AERMOD, version 07026. This modeling included all sources at the Marathon facility, and served to replace the 2002 modeling analysis. Both the new boilers (EU092 and EU093) and the existing boilers (EU001, EU020, and EU021) were included in the modeling, although Marathon's permit requires the three existing boilers to be shut down 180 days after the two new boilers begin operating. SO2 emissions from neighboring facilities were also included in the modeling. The 2009 AERMOD dispersion modeling used five years of meteorological data from 1986-1990. Surface meteorological data was measured at Minneapolis-St. Paul, MN, and upper air data was measured at St. Cloud, MN. The modeling used a receptor grid with 100 meter resolution. The resulting modeled SO2 concentrations, including a representative background SO2 concentration, were below the SO2 NAAQS.

On June 22, 2010, EPA published final revisions to the SO2 NAAQS, which added a one-hour standard (75 FR 35520). The SIP actions for the Marathon facility and the accompanying air quality analyses were finalized and the SIP revision request was submitted to EPA before EPA had proposed the new SO2 NAAQS (December 8, 2009; 74 FR 64810). Given the timing of this SIP revision request, and the fact that it represents an overall decrease in SO2 emissions, EPA finds that the October 6, 2009 submittal is complete and will not adversely affect Minnesota's ability to attain and maintain the one-hour SO2 standard.

IV. What action is EPA taking?

EPA is approving Minnesota's October 6, 2009 site-specific SO2 SIP revision request for Marathon Petroleum Co, LLC, in the Saint Paul Park area of Minneapolis-St.Paul, Minnesota. We are publishing this action without prior proposal because we view this as a noncontroversial amendment and anticipate no adverse comments. However, in the proposed rules section of this Federal Register publication, we are publishing a separate document that will serve as the proposal to approve the State plan if relevant adverse written comments are filed. This rule will be effective February 28, 2011 without further notice unless we receive relevant adverse written comments by January 27, 2011. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective February 28, 2011.

V. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 28, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Reporting and recordkeeping requirements, Sulfur oxides.

Dated: December 15, 2010.
Susan Hedman,
Regional Administrator, Region 5.

40 CFR part 52 is amended as follows:

PART 52—[AMENDED]

1. The authority citation for part 52 continues to read as follows:

Authority: 42 U.S.C. 7401 et seq.

Subpart Y—Minnesota

2. In § 52.1220 the table in paragraph (d) is amended by updating the entry for “Marathon Ashland Petroleum, LLC” to read as follows:

§ 52.1220 Identification of plan.

* * * * *

(d) * * *

EPA-Approved Minnesota Source-Specific Permits
Name of source | Permit No. | State effective date | EPA approval date | Comments
* * * * * * *
Marathon Petroleum, LLC | 16300003-016 | 09/11/09 | 12/28/10, [Insert page number where the document begins] | Only conditions cited as “Title I condition: SIP for SO2 NAAQS.”
* * * * * * *

* * * * *

[FR Doc. 2010-32482 Filed 12-27-10; 8:45 am]

BILLING CODE 6560-50-P